SECURITIES AND EXCHANGE COMMISSION

[Release No. IC-26403]

Notice of Applications for Deregistration Under Section 8(f) of the Investment Company Act of 1940

March 26, 2004.

The following is a notice of applications for deregistration under section 8(f) of the Investment Company Act of 1940 for the month of March, 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on April 20, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

Emigrant Securities Corp. [File No. 811-9559]

Summary: Applicant, a closed-end investment company, seeks an order declaring that it has ceased to be an investment company. Between October 16, 2003 and December 3, 2003, applicant distributed an amount equal to $1000 per share, plus all accrued and unpaid dividends, to its preferred shareholders in complete liquidation of their interests. Applicant then distributed all of its remaining assets to its sole common shareholder at net asset value. As of March 19, 2004, applicant had 24 preferred shareholders who have not surrendered their stock certificates. Funds in an amount sufficient to make the remaining liquidating distributions have been transferred to an escrow account and will be paid to such shareholders when they surrender their stock certificates. Expenses of $67,000 incurred in connection with the liquidation were paid by Emigrant Savings Bank, applicant's indirect parent company.

Filing Dates: The application was filed on December 19, 2003, and amended on March 19, 2004.

Applicant's Address: 5 East 42nd St., New York, NY 10017.

Advantus Money Market Fund, Inc. [File No. 811-4141]; Advantus Horizon Fund, Inc. [File No. 811-4142]; Advantus Index 500 Fund, Inc. [File No. 811-7815]; and Advantus Enterprise Fund, Inc. [File No. 811-8588]

Summary: Each applicant seeks an order declaring that it has ceased to be an investment company. On December 8, 2003, each applicant transferred its assets to a corresponding series of Ivy Funds, Inc. based on net asset value. Expenses of $61,960, $57,148, $64,532, and $72,352, respectively, were incurred in connection with the reorganizations and were paid by Advantus Capital Management, Inc., investment adviser to each applicant.

Filing Date: The applications were filed on March 10, 2004.

Applicants' Address: 400 Robert Street North, St. Paul, MN 55101.

Advantus Mortgage Securities Fund, Inc. [File No. 811-4140]; Advantus Spectrum Fund, Inc. [File No. 811-4143]; Advantus Bond Fund, Inc. [File No. 811-5026]; Advantus Venture Fund, Inc. [File No. 811-7817]; Advantus Cornerstone Fund, Inc. [File No. 811-8586]; and Advantus Real Estate Securities Fund, Inc. [File No. 811-9139]

Summary: Each applicant seeks an order declaring that it has ceased to be an investment company. On December 8, 2003, each applicant transferred its assets to a corresponding series of Ivy Funds, based on net asset value. Expenses of $264,346, $98,951, $43,675, $122,055, $115,715, and $137,792, respectively, incurred in connection with the reorganizations were paid by Advantus Capital Management, Inc., investment adviser to each applicant.

Filing Date: The applications were filed on March 10, 2004.

Applicants' Address: 400 Robert Street North, St. Paul, MN 55101.

Van Kampen U.S. Government Trust for Income [File No. 811-6724]

Summary: Applicant seeks an order declaring that it has ceased to be an investment company. On September 13, 2002, applicant transferred its assets to Van Kampen Government Securities Fund, based on net asset value. Expenses of $204,538 incurred in connection with the reorganization were paid by applicant.

Filing Dates: The application was filed on January 21, 2004, and amended on March 11, 2004.

Applicant's Address: 1 Parkview Plaza, Oakbrook Terrace, IL 60181-5555.

Van Kampen Senior Floating Rate Fund [File No. 811-8589]

Summary: Applicant, a closed-end investment company, seeks an order declaring that it has ceased to be an investment company. On June 13, 2003, applicant transferred its assets to Van Kampen Senior Loan Fund (formerly known as Van Kampen Prime Rate Income Trust), based on net asset value. Expenses of $410,065 incurred in connection with the reorganization were paid by applicant and the acquiring fund.

Filing Dates: The application was filed on January 21, 2004, and amended on March 11, 2004.

Applicant's Address: 1 Parkview Plaza, Oakbrook Terrace, IL 60181-5555.

PIMCO Diversified Income Fund [File No. 811-21361]

Summary: Applicant, a closed-end investment company, seeks an order declaring that it has ceased to be an investment company. Applicant has never made a public offering of its securities and does not propose to make a public offering or engage in business of any kind.

Filing Dates: The application was filed on February 9, 2004, and amended on March 9, 2004.

Applicant's Address: 1345 Avenue of the Americas, New York, NY 10105.

Separate Account Ten of Integrity Life Insurance Co. [File No. 811-08645]

Summary: Applicant seeks an order declaring that it has ceased to be an investment company. Shareholders on December 5, 2003 approved applicant's merger with another fund, and applicant distributed its assets on December 15, 2003. The fund surviving the merger is the Touchstone Enhanced Dividend 30 Fund. Touchstone Advisors. Inc., investment adviser to Separate Account Ten of Integrity Life Insurance Company, paid expenses of $102,000 incurred in connection with the merger.

Filing Date: The application was filed on January 22, 2004.

Applicant's Address: 515 West Market Street, Louisville, KY 40202.

For the Commission, by the Division of Investment Management, pursuant to delegated authority.
Margaret H. McFarland,
Deputy Secretary.

[FR Doc. 04-7274 Filed 3-31-04; 8:45 am]

BILLING CODE 8010-01-P